DEPARTMENT OF AGRICULTURE

Agricultural Research Service

Notice of Intent To Seek Office of Management and Budget Approval To Collect Information

AGENCY: Agricultural Research Service, USDA.

ACTION: Notice and request for comments.

SUMMARY: In accordance with the Paperwork Reduction Act of 1995 (Pub. L. No. 104-13 44 U.S.C. 3501 et seq.) and Office of Management and Budget (OMB) regulations 5 CFR part 1320 (60 FR 44978, Aug.29, 1995 as corrected at 60 FR 96148, Sept 5, 1995), this notice announces the Agricultural Research Service's (ARS) intention to request OMB approval for a new information collection from peer reviewers of ARS's research projects. The data will be used to manage the travel and stipend payments to panel reviewers and provide well organized feedback to ARS's researchers about their projects.

DATES: Written comments on this notice must be received by April 24, 2000 to be assured of consideration.

For further information contact: Marcia Moore, Peer Review Program Coordinator; Office of Scientific Quality Review; Agricultural Research Service, USDA; 5601 Sunnyside Avenue, Mailstop 5142; Beltsville, Maryland; 20705. Telephone: (301) 504-4786, E-mail: www.osqr@ars.usda.gov .

SUPPLEMENTARY INFORMATION: Title: Scientific Peer Review of ARS Research Projects.

Type of Request: OMB approval to collect information from peer reviewers of ARS's research projects.

Abstract: The Office of Scientific Quality Review was established in September of 1999 in response to the requirements of the Agricultural Research, Extension, and Education Reform Act of 1998 (Pub. L. 105-185, 7 U.S.C. 7601 et seq.). The law included mandates to perform scientific peer reviews of all research activities conducted by the USDA(Sec. 103, Pub. L. 105-185, 7 U.S.C. 7613). The Office manages the ARS peer review system by centrally planning peer panel reviews for ARS research projects on a five-year cycle. Each set of reviews is assigned a chairperson to govern the review process.

The majority of the peer reviewers will be non-ARS scientists. Peer review Panels are convened to provide in-depth discussion and review of the research project plans. Each reviewer receives information on all of ARS research projects within the program the reviewer is assigned to. The number of projects to review varies by program.

Information to be obtained from the public includes: Confidentiality Agreement, Panelist Information, Peer Review of an ARS Research Project, Critique of ARS Research Project, Panelist Expense Report, and Panelist Invoice.

Estimate of Burden: Public reporting burden for this data collection is estimated to average 1 hour per response.

Respondents: Scientific experts, currently working in the same discipline as the research projects under review, will be selected to review research projects.

These experts are notable peers within and external to the ARS.

Estimated Number of Respondents: 120 peer reviewers.

Estimated Total Annual Burden on Respondents: 2,168 hours.

Copies of Information: Copies of the information to be collected can be obtained from Marcia Moore, Peer Review Program Coordinator; Office of Scientific Quality Review; Agricultural Research Service, USDA; 5601 Sunnyside Avenue, Mailstop 5142; Beltsville, Maryland; 20705.

Comments: Comments are invited on (a) whether the proposed collection is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, such as through the use of appropriate automated, electronic, mechanical, or other technological collection techniques or other forms of information technology. Comments may be sent to: Marcia Moore, Peer Review Program Coordinator; Office of Scientific Quality Review; Agricultural Research Service, USDA; 5601 Sunnyside Avenue, Mailstop 5142; Beltsville, Maryland; 20705. All responses to this notice will be summarized and included in the request for OMB approval. All comments will also become a matter of public record.

Signed February 14, 2000.
Edward Knipling,
Associate Administrator, Agricultural Research Service, USDA.

[FR Doc. 00-3919 Filed 2-17-00; 8:45 am]

BILLING CODE 3410-03-P